DEPARTMENT OF THE INTERIOR

Bureau of Land Management

[(CA-920-1310-FI); (CACA 46599)]

Proposed Reinstatement of Terminated Oil and Gas Lease CACA 46599

AGENCY: Bureau of Land Management, Interior.

ACTION: Notice of reinstatement of terminated oil and gas lease.

SUMMARY: Under the provisions of Public Law 97-451, Summit Ventures, Inc., timely filed a petition for reinstatement of oil and gas lease CACA 46599 for lands in Kern County, California, and it was accompanied by all required rentals and royalties accruing from January 1, 2005, the date of termination.

FOR FURTHER INFORMATION CONTACT: Bonnie J. Edgerly, Land Law Examiner, Branch of Adjudication, Division of Energy & Minerals, BLM California State Office, 2800 Cottage Way, W-1834, Sacramento, California 95825, (916) 978-4370.

SUPPLEMENTARY INFORMATION: No valid lease has been issued affecting the lands. The lessee has agreed to new lease terms for rentals and royalties at rates of $10.00 per acre or fraction thereof and 16 2/3 percent, respectively. The lessee has paid the required $500 administrative fee and has reimbursed the Bureau of Land Management for the cost of this Federal Register notice. The Lessee has met all the requirements for reinstatement of the lease as set out in sections 31(d) and (e) of the Mineral Leasing Act of 1920 (30 U.S.C. 188), and the Bureau of Land Management is proposing to reinstate the lease effective June 1, 2005, subject to the original terms and conditions of the lease and the increased rental and royalty rates cited above.

Dated: May 24, 2006.
Debra Marsh,
Supervisor, Branch of Adjudication, Division of Energy & Minerals.

[FR Doc. E6-8425 Filed 5-31-06; 8:45 am]

BILLING CODE 4310-40-P